DEPARTMENT OF TRANSPORTATION

Federal Aviation Administration

Notice of Intent To Request From the Office of Management and Budget (OMB) of Six Current Public Collections of Information

AGENCY: Federal Aviation Administration (FAA), DOT.

ACTION: Notice.

SUMMARY: In compliance with the Paperwork Reduction Act (44 U.S.C. 3501 et seq.), the FAA invites public comment on six currently approved public information collections which will be submitted to OMB for renewal.

DATES: Comments must be received on or before April 16, 2001.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: the FAA solicits comments on the following six current collections of information in order to evaluate the necessity of the collection, the accuracy of the agency's estimate of the burden, the quality, utility, and clarity of the information to be collected, and possible ways to minimize the burden of the collection. Following are short synopses of the information collection activities which will be submitted to OMB for review and request for renewal:

1. 2120-0001, Notice of Proposed Construction or Alteration and Notice of Actual Construction or Alteration, and Project Status Request. Federal regulations require all persons to report proposed or actual construction/alteration of structures affecting air safety. The reporting requirements as prescribed in 14 CFR Part 77 affects any persons or business planning to construct or alter a structure that may affect air safety. The information is used to ensure the safe and efficient use of the navigable airspace by aircraft. The current estimated annual reporting burden on the public is 8,820 hours.

2. 2120-0022, Certification: Mechanics Repairmen, Parachute Riggers, and Inspection Authorizations, FAR-65. FAR part 65 prescribes rules governing the issuance of certificates and associated rating for mechanics, repairmen, parachute riggers, and the issuance of inspection authorizations. The current estimated annual burden is 28,943 hours.

3. 2120-0056, Report of Inspections Required by Airworthiness Directives. The Airworthiness Directive (AD) is the medium used by the FAA to provide notice to aircraft owners and operators that an unsafe condition exists and to prescribe the conditions and/or limitations, including inspections, under which the product may continue to be operated. AD's are issued to require corrective action to correct unsafe conditions in aircraft engines, propellers, and appliances. Reports of inspections are often needed when emergency corrective action is taken to determine if the action was adequate to correct the unsafe condition. The respondents are an estimated 81,000 owners/operators. The current estimated annual burden is 6,771 hours.

4. 2120-0101, Physiological training. This report is necessary to establish qualifications of eligibility to receive voluntary physiological training and will be used as proper evidence of training. An application form is completed by pilots and crewmembers as a request to receive voluntary physiological training. The current estimated annual burden is 5,500 hours.

5. 2120-0524, High Density Traffic airports; Slot Allocation and Transfer Methods. The information collection requirements of the rule involve the air carriers or commuter operators notifying the FAA of their current and planned activities regarding use of the arrival and departure slots at the high-density airports. The FAA logs, verifies, and processes the requests made by the operators. This information is used to allocate and withdraw takeoff and landing slots at the high-density airports, and confirms transfers of slots made among the operators. The current estimated annual burden is 2,581 hours.

6. 2120-0628, Employment History Verification, and Criminal History Records Check. The rule requires screeners and their supervisors to complete employment background checks. The current estimated annual burden is 2,969 hours.

Issued in Washington, DC, on February 9, 2001.
Steve Hopkins,
Manager, Standards and Information Division, APF-100.

[FR Doc. 01-3899 Filed 2-14-01; 8:45 am]

BILLING CODE 4910-13-M